DEPARTMENT OF DEFENSE

Department of the Army

Availability of U.S. Patents for Non-Exclusive, Exclusive, or Partially Exclusive Licensing

AGENCY: U.S. Army Soldier and Biological Chemical Command, DoD.

ACTION: Notice.

SUMMARY: In accordance with 37 CFR 404.7(a)(1) and 35 U.S.C. 209 announcement is made of the availability for licensing of the following U.S. Patents for non-exclusive, exclusive or partially exclusive licensing. All of the patents listed below have been assigned to the United States of America as represented by the Secretary of the Army, Washington, DC.

FOR FURTHER INFORMATION CONTACT: Mr. Bob Gross, Technology Transfer Office, U.S. Army SBCCOM, ATTN: AMSSB-RAS-C, 5183 Blackhawk Road (Bldg E3330/245), APG, MD 21010-5423, Phone: (410) 436-5387 or e-mail: rlgross@sbccom.apgea.army.mil.

SUPPLEMENTARY INFORMATION: The following Patent Numbers, Titles, Issue Dates and a Brief Summary are provided:

“Method and Kit for Rapid Detection of Toxins and Bacteria”, U.S. Patent 5,994, 067 Issued November 30, 1999

The present invention relates to toxin detection methods using bacteria stained with a fluorescent indicator. The invention also relates to methods of detecting bacteria using fluorescent indicators.

“Solid Particle Aerosol Belt and Dissemination Method”, U.S. Patent 6,170,234 Issued January 9, 2001

The present invention relates to a device and method that provide easy handling and dissemination of the solid particle aerosol material. The device and method permit the rapid and efficient dissemination of solid particle aerosol into the atmosphere for military and civilian purposes.

“Analytical Methodology for Qualitative and Quantitative Determination of Chemical Agent Vapor” U.S. Patent 6,174,732 Issued January 16, 2001

The present invention is a method for determining O-ethyl S (2-diisopropylanimoethyl) methylphosphonothiolate; better known as VX, vapor. This invention permits the generation of a purer non-contaminated VX vapor and the analytical determination of the VX samples collected under various relative humidity conditions.

“Advanced Chemical Biological Mask” U.S. Patents 6,176,239 Issued January 23, 2001

This invention is directed to an advanced chemical-biological mask for protecting a wearer from chemical and biological environmental contaminants. The mask is especially suitable for military applications, but is of interest in any civil emergency situation where highly toxic substances are in the atmosphere.

“Rapid Identification of Bacteria by Mass Spectrometry” U.S. Patent 6,177,266 Issued January 23, 2001

This invention relates to a method for the chemotaxonomic classification of bacteria with genus, species and strain specific biomarkers generated by matrix assisted laser desorption ionization time-of-flight mass spectrometry (MALDI-TOF-MS) analysis of either cellular protein extracts or whole cells.

“Alarm System for Hand-Held Chemical Monitor” U.S. Patent 6,191,696 Issued February 20, 2001

The present invention relates to an alarm system, which is capable of being interfaced with portable chemical monitors. The alarm system is for the Chemical Agent Monitor (CAM) and Improved Chemical Agent Monitor (ICAM).

“Environmental Material Ticket Reader and Airborne Hazard Detection System” U.S. Patent 6,228,657 Issued May 8, 2001

The present invention relates to a reader device that automatically reads collection elements for determining the presence of hazardous material, such as biological and chemical agents. The reader device may be used with a modified M256 ticket or other types of collection elements.

“Universal Decontaminating Solution for Chemical Warfare Agents” U.S. Patent 6,245,957 Issued June 23, 2001

The present invention is a composition, and a method that uses the composition, which decontaminate nerve and mustard chemical warfare agents. The composition is generally non-toxic to handling personnel prior to its use as a decontaminate for chemical warfare agents.

“Detector for Nucleic Acid Typing and Methods of Using the Same” U.S. Patent 6,238,866 Issued May 29, 2001

The present invention provides devices and methods for detecting or characterizing a nucleic acid analyte without requiring electrophoresis or the direct sequencing of analyte samples or analyte fragments.

“System and Method for Remote Detection of Hazardous Vapors and Aerosols” U.S. Patent 6,266,428 Issued July 24, 2001

The invention pertains generally to a system and method for remote detection and warning of hazardous vapors and aerosols and in particular to a system and method for imaging hazardous clouds.

Luz D. Ortiz,
Army Federal Register Liaison Officer.

[FR Doc. 01-27628 Filed 11-1-01; 8:45 am]

BILLING CODE 3710-08-M